BUREAU OF CONSUMER FINANCIAL PROTECTION

[Docket No. CFPB-2022-0041]

Agency Information Collection Activities: Comment Request

AGENCY: Bureau of Consumer Financial Protection.

ACTION: Notice and request for comment.

SUMMARY: In accordance with the Paperwork Reduction Act of 1995 (PRA), the Consumer Financial Protection Bureau (Bureau or CFPB) is publishing this notice seeking comment on a Generic Information Collection titled, “Sample Form Usability Research and Communication Testing,” prior to requesting the Office of Management and Budget's (OMB's) approval of this collection under the Generic Information Collection “Generic Information Collection Plan for the Development and Testing of Disclosures and Related Materials” under OMB Control number 3170-0022.

DATES: Written comments are encouraged and must be received on or before July 25, 2022 to be assured of consideration.

ADDRESSES: You may submit comments, identified by the title of the information collection, OMB Control Number (see below), and docket number (see above), by any of the following methods:

• Federal eRulemaking Portal: https://www.regulations.gov. Follow the instructions for submitting comments.

• Email: PRA_Comments@cfpb.gov. Include Docket No. CFPB-2022-0041 in the subject line of the email.

• Mail/Hand Delivery/Courier: Comment intake, Bureau of Consumer Financial Protection (Attention: PRA Office), 1700 G Street NW, Washington, DC 20552.

Please note that due to circumstances associated with the COVID-19 pandemic, the Bureau discourages the submission of comments by mail, hand delivery, or courier. Please note that comments submitted after the comment period will not be accepted. In general, all comments received will become public records, including any personal information provided. Sensitive personal information, such as account numbers or Social Security numbers, should not be included.

FOR FURTHER INFORMATION CONTACT: Documentation prepared in support of this information collection request is available at www.regulations.gov. Requests for additional information should be directed to Anthony May, Paperwork Reduction Act Officer, at (202) 841-0544, or email: CFPB_PRA@cfpb.gov. If you require this document in an alternative electronic format, please contact CFPB_Accessibility@cfpb.gov. Please do not submit comments to these email boxes.

SUPPLEMENTARY INFORMATION:

Title of Collection: Sample Form Usability Research and Communication Testing.

OMB Control Number: 3170-0022.

Type of Review: Request for approval of a generic information collection under an existing Generic Information Collection Plan.

Affected Public: Individuals.

Estimated Number of Respondents: 268.

Estimated Total Annual Burden Hours: 153.

Abstract: In connection with the rulemaking required to implement section 1071 of the Dodd-Frank Act, the CFPB will be developing a sample form for collecting the demographic data required for collection by the statute. This form is intended to show one example of a form that lenders, to facilitate their compliance with the statute, might provide to their small business customers. As contemplated by the statute, those small business customers will be able to choose the extent to which they complete the sample form or any other form presented to those customers by the lenders. The CFPB believes that the purposes of the statute will be furthered to the extent small business owners understand the purpose and nature of the statutorily-required demographic data collection.

We intend to conduct qualitative research to learn more about potential concerns that small business owners may have about providing demographic data to lenders while applying for business credit, including audience research with small business owners to assess their knowledge and understanding of the upcoming 1071 rule, as well as concerns that may impact their willingness to complete a form of this type. There are two purposes for this research:

• The Sample Form Usability Research is intended to identify possible concerns or issues small business owners may have with submitting demographic data via sample forms and explore possible approaches to form design and language that might bear on willingness to provide the data.

• The Communication Testing Research is intended to identify small business owners' knowledge and understanding of the upcoming 1071 rule as well as concerns that may impact their willingness to complete a form of this type. It will help develop implementation materials to facilitate lenders' compliance with the statutory requirements.

Request for Comments: The Bureau is soliciting comments on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be submitted to OMB as part of its review of this request. All comments will become a matter of public record.

Anthony May,
Paperwork Reduction Act Officer, Consumer Financial Protection Bureau.

[FR Doc. 2022-13424 Filed 6-22-22; 8:45 am]

BILLING CODE 4810-AM-P